DEPARTMENT OF DEFENSE

Office of the Secretary

Publication of Housing Price Inflation Adjustment Under 50 U.S.C. App. Section 531

AGENCY: DoD, Office of the Under Secretary (Personnel and Readiness).

ACTION: Notice.

SUMMARY: The Servicemembers Civil Relief Act, as codified at 50 U.S.C. App. Section 531, prohibits a landlord from evicting a Service member (or the Service member's family) from a residence during a period of military service except by court order. The law as originally passed by Congress applied to dwellings with monthly rents of $2400 or less. The law requires the Department of Defense to adjust this amount annually to reflect inflation, and to publish the new amount in the Federal Register. We have applied the inflation index required by the statute. The maximum monthly rental amount for 50 U.S.C. App. Section 531 (a)(1)(A)(ii) as of January 1, 2008, will be $2,831.13.

DATES: Effective Dates: January 1, 2008.

FOR FURTHER INFORMATION CONTACT: Colonel S. Shumake, Office of the Under Secretary of Defense for Personnel and Readiness, (703) 697-3387.

Dated: January 30, 2008.
L.M. Bynum,
Alternate OSD Federal Register Liaison Officer, Department of Defense.

[FR Doc. E8-1941 Filed 2-1-08; 8:45 am]

BILLING CODE 5001-06-P